DEPARTMENT OF AGRICULTURE

Agricultural Marketing Service

[Doc. No. AMS-CN-22-0084]

Advisory Committee on Universal Cotton Standards

AGENCY: Agricultural Marketing Service, USDA.

ACTION: Notice; intent to reestablish committee and request for nominations.

SUMMARY: The U.S. Department of Agriculture (USDA) intends to reestablish the Advisory Committee on Universal Cotton Standards (Committee). The Committee is necessary and in the public interest. The Committee reviews official Universal Standards for American Upland cotton prepared by USDA and would make recommendations to the Secretary of Agriculture regarding the establishment or revision of standards. USDA also seeks nominations of individuals to be considered for appointment by the Secretary as Committee members.

DATES: Written nominations must be received on or before May 1, 2023.

ADDRESSES: Nominations and applications materials should be sent to Gretchen Deatherage, Designated Federal Official, Cotton & Tobacco Program, AMS, USDA, 3275 Appling Road, Room 5, Memphis, TN 38133 or by email to Gretchen.Deatherage@usda.gov.

FOR FURTHER INFORMATION CONTACT: Gretchen Deatherage, Designated Federal Official; Phone: (901) 384-3030; Email: Gretchen.Deatherage@usda.gov.

SUPPLEMENTARY INFORMATION: Pursuant to the Federal Advisory Committee Act (5 U.S.C. 10), notice is hereby given that the Secretary of Agriculture intends to reestablish the Committee for two years and the Committee would be composed of foreign and domestic representatives of the cotton industry. The purpose of the Committee would be to review official Universal Standards for U.S. Upland cotton prepared by USDA and make recommendations to the Secretary of Agriculture regarding establishment or revision of the standards established under the United States Cotton Standards Act (7 U.S.C. 51 et seq.). The Deputy Administrator of the Agricultural Marketing Service's Cotton and Tobacco Program will serve as the Committee's Executive Secretary.

Industry members will be appointed by the Secretary of Agriculture and serve two (2) year terms. Membership will consist of representatives from the cotton industry. The U.S. cotton industry's membership would comprise twelve (12) producers and ginners, six (6) representatives of merchandising firms, and six (6) representatives of textile manufacturers. These representatives would be appointed by the Secretary of Agriculture. Each member would have one vote. Accordingly, voting privileges will be divided as follows: U.S. cotton producers and ginners—twelve (12) votes; U.S. merchandising firms—six (6) votes; U.S. textile manufacturers—six (6) votes. There would be two committee members designated from each of the foreign signatory associations. These committee members would be designated by the respective associations. Voting privileges would be divided as follows: foreign signatory merchant associations—six (6) votes; foreign signatory spinner associations—six (6) votes. The members of the re-established Committee will elect a Chairperson of the Committee.

The Secretary of Agriculture invites those individuals, organizations, and groups affiliated with the categories listed above to nominate individuals for membership on the re-established Committee. Nominations should describe and document the proposed member's qualifications for membership to the Committee and list their name, title, address, telephone, and fax number. The Secretary of Agriculture seeks a diverse group of members that represent a broad spectrum of persons interested in providing suggestions and ideas on how USDA can tailor its programs to meet the needs of the cotton industry.

All individuals must submit the following to nominate yourself or someone else to the Advisory Committee on Universal Cotton Standards: a resume or curriculum vitae (required), a USDA Advisory Committee Membership Background Information Form AD-755—available online at https://www.usda.gov/sites/default/files/documents/ad-755.pdf (required), a cover letter (required), and a list of endorsements or letters of recommendation (optional). The resume or curriculum vitae must be limited to five one-sided pages and should include a summary of the following information: Current and past organization affiliations; areas of expertise; education; career positions held; and any other notable positions held.

More information on USDA Advisory Committees may be found at https://www.usda.gov/whlo/apply.

Equal opportunity practices in accordance with USDA policies will be followed in all appointments to the Committee. To ensure that the recommendations of the Committee have taken into account the needs of the diverse groups served by USDA, membership will include, to the extent possible, individuals with demonstrated ability to represent minorities, women, and persons with disabilities.

Dated: March 24, 2023.
Cikena Reid,
USDA Committee Management Officer.

[FR Doc. 2023-06684 Filed 3-30-23; 8:45 am]

BILLING CODE 3410-02-P